DEPARTMENT OF COMMERCE

National Oceanic and Atmospheric Administration

RIN 0648-XF83

Advisory Committee to the U.S. Section to the International Commission for the Conservation of Atlantic Tunas (ICCAT); Spring Species Working Group Meeting

AGENCY: National Marine Fisheries Service (NMFS), National Oceanic and Atmospheric Administration (NOAA), Commerce.

ACTION: Notice of public meeting.

SUMMARY: The Advisory Committee (Committee) to the U.S. Section to the International Commission for the Conservation of Atlantic Tunas (ICCAT) announces its spring meeting with its Species Working Group Technical Advisors on March 27-28, 2008. The Committee will meet to discuss matters relating to ICCAT, including the 2007 Commission meeting results; research and management activities; global and domestic initiatives related to ICCAT; consultations required under section 971d(c)(6) of the Atlantic Tunas Convention Act; the results of the meetings of the Committee's Species Working Groups; and other matters relating to the international management of ICCAT species.

DATES: The open sessions of the Committee meeting will be held on March 27, 2008, from 8:30 a.m. to 2:30 p.m., and on March 28, 2008, from 9 a.m. to 9:15 a.m. and from 11 a.m. to 3:30 p.m. Closed sessions will be held on March 27, 2008, from 2:45 p.m. to approximately 6 p.m. and on March 28, 2008, from 9:15 a.m. to 11 a.m.

ADDRESSES: The meeting will be held at the Hilton Hotel Washington-Silver Spring, 8727 Colesville Road, Silver Spring, MD 20910, telephone: 301-589-5200.

FOR FURTHER INFORMATION CONTACT: Ryan Wulff at (301) 713-2276.

SUPPLEMENTARY INFORMATION: The Advisory Committee to the U.S. Section to ICCAT will meet in open session to receive and discuss information on: (1) the 2007 ICCAT meeting results and U.S. implementation of ICCAT decisions; (2) 2008 ICCAT and NMFS research and monitoring activities; (3) 2008 ICCAT activities; (4) global and domestic initiatives related to ICCAT; (5) consultations required under section 971d(c)(6) of the Atlantic Tunas Convention Act; (6) the results of the meetings of the Committee's Species Working Groups; and (7) other matters relating to the international management of ICCAT species. The public will have access to the open sessions of the meeting, but there will be no opportunity for public comment during the session.

The Committee will meet in its Species Working Groups for a portion of the afternoon of March 27, 2008, and of the morning of March 28, 2008. These sessions are not open to the public, but the results of the species working group discussions will be reported to the full Advisory Committee during the Committee's morning and afternoon open session on March 28, 2008. The Committee may also go into executive session on the afternoon of March 28, 2008, to discuss sensitive information relating to upcoming intersessional meetings of ICCAT. This session would also be closed to the public.

Special Accommodations

The meeting location is physically accessible to people with disabilities. Requests for sign language interpretation or other auxiliary aids should be directed to Ryan Wulff at (301) 713-2276 at least 5 days prior to the meeting date.

Dated: March 5, 2008.
Rebecca J. Lent,
Director, Office of International Affairs, National Marine Fisheries Service.

[FR Doc. E8-4698 Filed 3-7-08; 8:45 am]

BILLING CODE 3510-22-S